ENVIRONMENTAL PROTECTION AGENCY

40 CFR Part 63

National Emission Standards for Hazardous Air Pollutants for Source Categories

CFR Correction

In Title 40 of the Code of Federal Regulations, Part 63 (§§ 63.1200-63.1439), revised as of July 1, 2003, § 63.1331 is corrected by adding paragraph (a)(6) introductory text to read as follows:

§ 63.1331 Equipment leak provisions.

* * * * *

(a) * * *

(6) For pumps, valves, connectors, and agitators in heavy liquid service; pressure relief devices in light liquid or heavy liquid service; and instrumentation systems; owners or operators of affected sources producing PET shall comply with the requirements of paragraphs (a)(6)(i) and (ii) of this section instead of with the requirements of § 63.139. Owners or operators of PET affected sources shall comply with all other provisions of subpart H of this part for pumps, valves, connectors, and agitators in heavy liquid service; pressure relief devices in light liquid or heavy liquid service; and instrumentation systems, except as specified in paragraphs (a)(6)(iii) through (v) of this section.

* * * * *

[FR Doc. 04-55509 Filed 6-1-04; 8:45 am]

BILLING CODE 1505-01-D